DEPARTMENT OF AGRICULTURE

Food and Nutrition Service

Agency Information Collection Activities: Proposed Collection; Comment Request—Food Program and Reporting System (FPRS)

AGENCY: Food and Nutrition Service (FNS), USDA.

ACTION: Notice.

SUMMARY: In accordance with the Paperwork Reduction Act of 1995, this notice invites the general public and other public agencies to comment on a proposed information collection, which is a revision of a currently approved form.

The purpose of the Food Programs Reporting System (FPRS) is to facilitate data gathering for the reporting of data for the Supplemental Nutrition Assistance Program (SNAP) and the Special Nutrition Programs. FPRS consolidated certain programmatic and financial data reporting requirements in an electronic reporting system and is the primary collection point for FNS program performance statistics and financial data from State agencies, Indian Tribal Organizations and U.S. Territories participating in the nutrition assistance programs.

DATES: Written comments must be submitted on or before October 16, 2015.

ADDRESSES: Comments are invited on: (a) Whether the proposed collection of information is necessary for the proper performance of the functions of the agency, including whether the information has practical utility; (b) the accuracy of the agency's estimate of the burden hours, including the validity of the methodology and assumptions that were used; (c) ways to enhance the quality, utility, and clarity of the information to be collected; and (d) ways to minimize the burden of the collection of information on those who are to respond, including through the use of appropriate automated, electronic, mechanical or other technological collection techniques or other forms of information technology.

Comments may be sent to Jane Duffield, Chief, State Administration Branch, Program Accountability and Administration Division, Supplemental Nutrition Assistance Program, U.S. Department of Agriculture, Food and Nutrition Service, 3101 Park Center Drive, Room 818, Alexandria, VA 22302. Comments may also be submitted via fax to the attention of Jane Duffield at 703-605-0795, Room 824, or via email to SNAP-Ed@fns.usda.gov. Comments will also be accepted through the Federal eRulemaking Portal. Go to http://www.regulations.gov and follow the online instructions for submitting comments electronically.

All written comments will be open for public inspection at the office of FNS during regular business hours (8:30 a.m. to 5:00 p.m. Monday through Friday) at 3101 Park Center Drive, Room 808, Alexandria, Virginia 22302.

All responses to this notice will be summarized and included in the request for the Office of Management and Budget (OMB) approval. All comments will also be a matter of public record.

CONTACT FOR FURTHER INFORMATION: Requests for additional information should be directed to Usha Kalro at SNAP-Ed@fns.usda.gov.

SUPPLEMENTARY INFORMATION:

Title: Food Programs Reporting System.

OMB Number: 0584-0594.

Form Number and Name: Worksheet FNS-759 Education and Administrative Reporting System.

Expiration Date: 08/31/2016.

Type of Request: Revision of a currently approved information collection.

Abstract: The purpose of the Education and Administrative Reporting System (EARS) maintained in FPRS is to collect uniform and standard information on nutrition education activities funded through the Supplemental Nutrition Assistance Program—Education (SNAP-Ed) program. The data collected through EARS informs management decisions, supports policy initiatives, and provides documentation for legislative, budget, and other requests that support planning within the agency. FNS intends to update the EARS form so that it reflects changes, specifically those that are a direct result of provisions in the Healthy, Hunger-Free Kids Act (HHFKA) of 2010. In addition, FNS continues to explore other ways to improve upon or incorporate metrics that will enhance the evaluation of SNAP-Ed programs. FNS developed EARS for SNAP's nutrition education component, SNAP-Ed, which is provided for in Section 11 of the Food and Nutrition Act (FNA) 2008 (7 U.S.C. 2020 (f)(3)(B)(ii)). In 2003, the Agency convened a workgroup of diverse stakeholders to assist with this task, including people from the Federal, State, and local levels, as well as academia.

The EARS form (FNS-759) was approved by OMB in Fiscal Year (FY) 2007. FNS implemented the first phase of EARS in FY 2008, which required SNAP State agencies to report on financial items only. Full implementation of EARS reporting requirements was completed in FY 2010. EARS provides uniform data and information about the nutrition education activities of all participating States across the country, including the District of Columbia, the Virgin Islands and Guam. Data gathered through the EARS form includes demographic characteristics of participants receiving nutrition education benefits, information about education topics and strategies, and use of resources. The EARS form is designed as an annual report that SNAP State agencies submit using FNS' web-based Food Program Reporting System, OMB Control No: 0584-0594, Expiration Date 6/30/2017. State agencies submit data between October 15 and December 30 of each year for the prior FY's nutrition education activities.

In 2010, Congress passed the HHFKA. Section 241 of the HHFKA replaced the existing nutrition education program under Section 11(f) of the Food and Nutrition Act (“FNS” or the “Act”) (7 U.S.C. 2011 et seq.) with the nutrition education and obesity prevention grant program under Section 28. FNS continues to refer to the redesigned program as SNAP-Ed. Changes to the program mandated by the HHFKA require revisions to the currently approved EARS form/worksheet. Some of the major changes to SNAP-Ed are:

(1) A focus on the critical problem of obesity—The program now has a wider range of evidence-based intervention strategies. Specifically, SNAP-Ed includes any combination of educational strategies, accompanied by environmental supports, designed to facilitate the voluntary adoption of healthy food and physical activity choices, as well as other nutrition-related behaviors. It is conducive to the well-being of SNAP participants and other qualifying low-income individuals and may involve programs at complementary organizational and institutional levels in addition to community and public health approaches.

(2) A target population which more closely aligns SNAP-Ed participants with those in other FNS, Federal, and State-administered benefit programs. In the past, SNAP-Ed participants included those receiving SNAP or those eligible to receive SNAP. Following the implementation of the HHFKA, the target population is extended to individuals who are eligible to receive SNAP or other means-tested Federal assistance programs or those residing in a community with a significant low-income population. These means-tested programs include Medicaid and Temporary Assistance for Needy Families, among others.

(3) Requirement for evidence-based interventions—Evidence-based approaches have been defined by the FNS Administrator in consultation with the Director of the Centers for Disease Control and Prevention. FNS has provided States with more flexibility by permitting States to use funds for nutrition education and obesity prevention interventions that are developed by integrating the best available research evidence, practice-based evidence or emerging evidence. In accordance with the SNAP-Ed Guidance, these may include the implementation and measurement of policy, systems and environmental changes (PSEs). Expanding the types of environmental and policy approaches that can be used in SNAP-Ed allows State programs to build upon nutrition education and health promotion efforts in a way that better supports a more comprehensive focus on obesity prevention.

(4) A new funding mechanism—As opposed to matching State funds for SNAP-Ed programs, FNS allocates 100 percent Federal grant funding to States, which may coordinate SNAP-Ed activities through partnerships with public and private entities in order to better leverage their financial resources. The formula proscribed by the HHFKA builds progressively to a 50/50 weighting of SNAP-Ed expenditures to SNAP participation based on the funding from the previous 12-month period ending January 31. For Fiscal Year 2015, 80 percent of the funding was based on expenditures and 10 percent of the funding was based on the State's SNAP participation rate. The 50/50 weighting applies to Fiscal Year 2018 and beyond.

The revised form is available for review with this docket on www.Regulations.gov, in Supporting Documents. The proposed modifications to the current EARS form/worksheet include the following, where the items pertain to the proposed draft unless stated otherwise:

• Collect data on the number and percentage of SNAP-Ed eligibles and those reached through Direct Education, Social Marketing and PSE change interventions in a State (Item 1a-e).

• Collect data on the estimated percentage of SNAP-Ed funds expended to reach SNAP-Ed eligibles through the above intervention types (Item 1f).

• Added a statement about the Community Eligibility Provision as a special circumstance for determining SNAP status (Items 2a and 2b).

• Collect data on whether SNAP-Ed participation counts for each age group are actual or estimated values (Items 2a and 2b).

• Collect data on additional settings where education is provided to SNAP-Ed participants (Item 5).

• Collect data on whether Direct Education programs are part of a Social Marketing initiative (Item 6a).

• Collect data on whether Direct Education supports PSEs (Item 6b).

• Collect data on whether direct education programs are part of a social marketing and/or PSE interventions (Item 6a and 6b).

• Removed question 8 on Indirect Education (on the current form) and added the column on “Source(s) of Data” to the table “Description of All Social Marketing Campaigns” (Item 7).

• Collect data on PSEs (Item 8).

• Collect data focused on classifying partnerships and their role in SNAP-Ed programs (Item 9).

• Removed the last question on funding (Item 9 in the current form) since funds are now 100 percent federal allocations to States according to a specified formula and do not require a State match.

The form has been rearranged to better accommodate the instructions and improve the flow of questions. This revision also reflects an increase in burden estimates. FNS estimates that 53 State agencies will respond once a year for a total of 53 annual responses. The current burden it takes each State agency to respond is 54 burden hours. In the revised data collection instrument, it will take approximately 60 burden hours for each State agency to respond which reflects an increase of six burden hours per State from the last submission. The current burden for this collection is 2,808. FNS calculates the revised total burden for this collection is 3,180 annual burden hours which reflects an increase of 300 burden hours due to program changes and adjustments. There are no recordkeeping requirements imposed by this information collection. As this is a revision to the EARS form within the FPRS system, the total FPRS burden is summarized below.

Affected Public: SNAP State agencies and Business. Respondent Type: Businesses are identified as non-profit organizations serving as implementing partners, such as extension universities, and local program operators.

Estimated Number of Respondents: 3,267.

Number of Responses per Respondent: 7.28191.

Estimated Total Annual Responses: 23,790.

Hours per Response: 3.65157629.

Total Annual Burden Hours (Reporting Only): 86,871.

Dated: August 2, 2015.
Audrey Rowe,
Administrator, Food and Nutrition Service.

[FR Doc. 2015-20208 Filed 8-14-15; 8:45 am]

BILLING CODE 3410-30-P